ENVIRONMENTAL PROTECTION AGENCY

40 CFR Part 52

[R04-OAR-2005-TN-0004-200526(a); FRL-8014-6]

Approval and Promulgation of Implementation Plans; Tennessee and Nashville-Davidson County; Approval of Revisions to the State Implementation Plan

AGENCY: Environmental Protection Agency (EPA).

ACTION: Direct final rule.

SUMMARY: The EPA is approving non-regulatory revisions to the Tennessee State Implementation Plan (SIP) and regulatory revisions to the Nashville-Davidson portion of the Tennessee SIP, submitted by the State of Tennessee through the Tennessee Department of Environment and Conservation (TDEC) on January 26, 1999, October 11, 2001, and April 15, 2005. The revisions amend the Vehicle Inspection and Maintenance program in Nashville-Davidson County and the Nashville (Middle Tennessee) 1-Hour Ozone Maintenance Plan.

DATES: This direct final rule is effective March 6, 2006 without further notice, unless EPA receives adverse comment by February 2, 2006. If adverse comment is received, EPA will publish a timely withdrawal of the direct final rule in the Federal Register and inform the public that the rule will not take effect.

ADDRESSES: Submit your comments, identified by Regional Material in EDocket (RME) ID No. R04-OAR-2005-TN-0004, by one of the following methods:

1. Federal eRulemaking Portal: http://www.regulations.gov. Follow the on-line instructions for submitting comments.

2. Agency Web site: http://docket.epa.gov/rmepub/ RME, EPA's electronic public docket and comment system, is EPA's preferred method for receiving comments. Once in the system, select “quick search,” then key in the appropriate RME Docket identification number. Follow the on-line instructions for submitting comments.

3. E-mail: hoffman.annemarie@epa.gov.

4. Fax: 404-562-9019.

5. Mail: R04-OAR-2005-TN-0004, Regulatory Development Section, Air Planning Branch, Air, Pesticides and Toxics Management Division, U.S. Environmental Protection Agency, Region 4, 61 Forsyth Street, SW., Atlanta, Georgia 30303-8960.

6. Hand Delivery or Courier. Deliver your comments to: Anne Marie Hoffman, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to RME ID No. R04-OAR-2005-TN-0004. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through RME, regulations.gov, or e-mail. The EPA RME Web site and the Federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Anne Marie Hoffman, Regulatory Development Section, Air Planning Branch, Air, Pesticides and Toxics Management Division, U.S. Environmental Protection Agency, Region 4, 61 Forsyth Street, SW., Atlanta, Georgia 30303-8960. The telephone number is (404) 562-9074. Ms. Hoffman can also be reached via electronic mail at hoffman.annemarie@epa.gov.

SUPPLEMENTARY INFORMATION:

I. Background

On June 11, 1997, the Tennessee Air Pollution Control Board approved non-regulatory revisions to the Nashville Ozone Maintenance Plan so that the Plan would remain consistent with Rule 1200-3-29-.03, Motor Vehicle Inspection Requirements. On October 10, 2001, and April 12, 2005, the Tennessee Air Pollution Control Board approved revisions to the Nashville-Davidson County Regulation No. 8, Regulation of Emissions from Light-Duty Motor Vehicles Through Mandatory Vehicle Inspection and Maintenance Program. The final revisions, adopted on April 12, 2005, are consistent with the State of Tennessee Light-Duty Motor Vehicle Inspection and Maintenance regulations and support the Nashville-Davidson County Metropolitan Health Department's efforts to ensure attainment of the 8-hour ozone national ambient air quality standard (NAAQS).

II. Analysis of State's Submittal

The non-regulatory revision to the Nashville Ozone Maintenance Plan submitted to EPA on January, 26, 1999, revises the Nashville Ozone Maintenance Plan so that the Plan remains consistent with Rule 1200-3-29-.03, Motor Vehicle Inspection Requirements. The revision to the Maintenance Plan merely updates the Plan and does not impact any emission calculations or affect any compliance rate calculations in the Maintenance Plan.

The revisions submitted to EPA on October 11, 2001, revise Regulation No. 8 of the Nashville-Davidson County portion of the Tennessee SIP, Regulation of Emissions From Light-Duty Motor Vehicles through Mandatory Vehicle Inspection and Maintenance Program, by changing definitions, on board diagnostics requirements, and fees associated with the program.

The revisions submitted to EPA on April 12, 2005, revise Regulation No. 8 of the Nashville-Davidson County portion of the Tennessee SIP, Regulation of Emissions From Light-Duty Motor Vehicles through Mandatory Vehicle Inspection and Maintenance Program, by expanding the existing regulations to increase the vehicle test weight to 10,000 pounds (gross vehicle weight rating) and adding diesel powered vehicles from 1975 to the present year. The revisions are consistent with the State of Tennessee Light-Duty Motor Vehicle Inspection and Maintenance regulations and will improve air quality in Nashville through vehicle emissions reductions. The emissions reductions expected in the Nashville area from expansion of the inspection and maintenance program will be 0.0231 tons per day of nitrogen oxides (NOX) and 0.0455 tons per day of volatile organic compounds (VOC).

III. Final Action

EPA is approving the aforementioned regulatory and nonregulatory changes to the Tennessee SIP because they are consistent with the Clean Air Act and EPA requirements.

The EPA is publishing this rule without prior proposal because the Agency views this as a noncontroversial submittal and anticipates no adverse comments. However, in the proposed rules section of this Federal Register publication, EPA is publishing a separate document that will serve as the proposal to approve the SIP revision should adverse comments be filed. This rule will be effective March 6, 2006 without further notice unless the Agency receives adverse comments by February 2, 2006.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on March 6, 2006 and no further action will be taken on the proposed rule. Please note that if we receive adverse comment on an amendment, paragraph, or section of this rule and if that provision may be severed from the remainder of the rule, we may adopt as final those provisions of the rule that are not the subject of an adverse comment.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 6, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Particulate matter, Volatile organic compounds.

Dated: December 9, 2005.
A. Stanley Meiburg,
Acting Regional Administrator, Region 4.

40 CFR part 52 is amended as follows:

PART 52—[AMENDED]

1. The authority citation for part 52 continues to read as follows:

Authority: 42 U.S.C. 7401 et seq.

Subpart RR—Tennessee

2. Section 52.2220 is amended by:

a. In paragraph (c) under “Table 5-EPA Approved Nashville-Davidson County Regulations” by revising entries for “Regulation No. 8 Regulation of Emissions from Light-Duty Motor Vehicles Through Mandatory Vehicle Inspection and Maintenance Program.”

b. In paragraph (e) by adding new entry at the end of the table for “Nashville Ozone Maintenance Plan” to read as follows:

§ 52.2220 Identification of plan.

* * * * *

(c) * * *

Table 5.—EPA-Approved Nashville-Davidson County Regulations
State citation | Title/subject | State effective date | EPA approval date | Explanation
* * * * * * *
Regulation No. 8 | Regulation of Emissions from Light-Duty Motor Vehicles Through Mandatory Vehicle Inspection and Maintenance Program | 4/12/05 | January 3, 2006. [Insert first page of publication] |
* * * * * * *

* * * * *

(e) * * *

EPA-Approved Tennessee Non-Regulatory Provisions
Name of nonregulatory SIP provision | Applicable geographic or nonattainment area | State effective date | EPA approval date | Explanation
* * * * * * *
Nashville 1-Hour Ozone Maintenance Plan | Nashville 1-Hour Ozone Maintenance Area | June 11, 2005. | January 3, 2006 [Insert first page number of publication] |

[FR Doc. 05-24413 Filed 12-30-05; 8:45 am]

BILLING CODE 6560-50-P